DEPARTMENT OF AGRICULTURE

Submission for OMB Review; Comment Request

The Department of Agriculture will submit the following information collection request to the Office of Management and Budget (OMB) for review and clearance under the Paperwork Reduction Act of 1995 (44 U.S.C. Chapter 35). Comments are invited on: (1) whether the proposed collection of information is necessary for the proper performance of the functions of the agency, including whether the information will have practical utility; (2) the accuracy of the agency's estimate of the burden of the proposed collection, including the validity of the methodology and assumptions used; (3) ways to enhance the quality, utility, and clarity of the information to be collected; and (4) ways to minimize the burden of the collection of information on respondents, including through the use of automated collection techniques or other forms of information technology.

Comments must be received by December 22, 2025 to be assured of consideration. Written comments and recommendations for the proposed information collection should be submitted within 30 days of the publication of this notice at www.reginfo.gov/public/do/PRAMain. Find this particular information collection by selecting “Currently under 30-day Review—Open for Public Comments” or by using the search function.

An agency may not conduct or sponsor a collection of information unless it displays a currently valid OMB control number. Individuals are not required to respond to a collection of information unless it displays a valid OMB control number.

National Agricultural Statistics Service (NASS)

Title: Fruit, Nuts, and Specialty Crops—Substantive Change.

OMB Control Number: 0535-0039.

Summary of Collection: The National Agricultural Statistics Service (NASS) is responsible for preparing and issuing current official state and national estimates of crop and livestock production. Estimates for fruit, tree nuts, and specialty crops are a key component of this mission and support the NASS strategic goal of covering all agricultural cash receipts. Data are collected voluntarily from growers, processors, and handlers through surveys authorized under 7 U.S.C. 2204(a). Individually identifiable data are protected under Section 1770 of the Food Security Act of 1985 (7 U.S.C. 2276) and Title III of Public Law 115-435 (CIPSEA), which require strict confidentiality for non-aggregated respondent data.

NASS is submitting a substantive change request to revise the currently approved information collection for the Fruit, Nut, and Specialty Crops Surveys. This change reflects a programmatic adjustment to the Florida citrus data collection strategy. Specifically, NASS proposes to discontinue the Florida Citrus Processors Inquiry and instead include Florida in the Quarterly Citrus Survey. This change will align Florida's citrus data collection with the methodology used in other citrus-producing states, streamline internal operations, and improve consistency across states. Florida will adopt the California version of the Quarterly Citrus Survey questionnaire. No changes are being made to the core survey instruments beyond the inclusion of Florida in the sampling frame and associated scheduling adjustments.

Need and Use of the Information: The data collected are used to estimate crop acreage, yield, production, utilization, price, and value in states with significant commercial production. These estimates are essential for stakeholders—including farmers, processors, exporters, shipping companies, and market order administrators—to make informed production and marketing decisions.

Description of Respondents: Farms; Business or other for-profit.

Number of Respondents: 56,215.

Frequency of Responses: On occasion; Annually; Semi-annually; Quarterly; Monthly; Weekly.

Total Burden Hours: 28,792.

Levi S. Harrell,
Departmental Information Collection Clearance Officer.

[FR Doc. 2025-20457 Filed 11-19-25; 8:45 am]

BILLING CODE 3410-20-P